DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground modified | Communities affected
Stokes County, North Carolina and Incorporated Areas
Docket No.: FEMA-B-7465
Ash Camp Creek | At the confluence with Town Fork Creek | +619 | Stokes County (Unincorporated Areas), Town of Walnut Cove.
| Approximately 1.4 miles upstream of Brook Cove Road (SR 1941) | +660
Beaverdam Creek | At the confluence with Big Creek | +898 | Stokes County (Unincorporated Areas).
| Approximately 0.7 mile upstream of Palmer Road (SR 1465) | +1,003
Belews Creek | Approximately 0.9 mile upstream of the confluence with Dan River | +737 | Stokes County (Unincorporated Areas).
| Approximately 0.7 mile downstream of the confluence of East Belews Creek | +737
Tributary 2 | At the confluence with Belews Creek | +737 | Stokes County (Unincorporated Areas).
| Approximately 0.5 mile upstream of the confluence with Belews Creek | +737
Tributary 3 | At the confluence with Belews Creek | +737 | Stokes County (Unincorporated Areas).
| Approximately 0.9 mile upstream of the confluence with Belews Creek | +737
Tributary of Tributary 3 | At the confluence with Belews Creek Tributary 3 | +737 | Stokes County (Unincorporated Areas).
| At the Stokes/Rockingham County boundary | +737
Belews Lake | Entire shoreline within county | +737 | Stokes County (Unincorporated Areas).
Big Beaver Island Creek | Approximately 900 feet upstream of the confluence of Big Beaver Island Creek Tributary 12 | +768 | Stokes County (Unincorporated Areas).
| Approximately 1.3 miles upstream of Buffalo Road (SR 1636) | +860
Big Creek | At the confluence with Dan River | +768 | Stokes County (Unincorporated Areas).
| At the Stokes/Surry County boundary | +1,084
Tributary 1 | At the confluence with Big Creek | +1,023 | Stokes County (Unincorporated Areas).
| Approximately 0.6 mile upstream of Stevens Road (SR 1404) | +1,074
Tributary 2 | At the confluence with Big Creek | +1,065 | Stokes County (Unincorporated Areas).
| Approximately 1.3 miles upstream of the confluence with Big Creek | +1,124
Blackies Branch | At the confluence with Dan River | +655 | Stokes County (Unincorporated Areas).
| Approximately 0.6 mile upstream of the confluence with Dan River | +669
Brushy Fork Creek | At the confluence with Town Fork Creek | +873 | Stokes County (Unincorporated Areas).
| Approximately 0.2 mile upstream of Mountain View Church Road (SR 1998) | +873
Buffalo Creek (into Mayo River) | At the Stokes/Rockingham County boundary | +753 | Stokes County (Unincorporated Areas).
| Approximately 2.9 miles upstream of the Stokes/Rockingham County boundary | +822
Buffalo Creek (into Town Fork Creek) | At the confluence with Town Fork Creek | +662 | Stokes County (Unincorporated Areas).
| Approximately 0.5 mile upstream of the confluence with Town Fork Creek | +669
Bull Run | At the confluence with Town Fork Creek | +605 | Stokes County (Unincorporated Areas), Town of Walnut Cove.
| Approximately 0.9 mile upstream of Martin Luther King, Jr. Road | +645
Coolico Creek (Morgan Pond) | At the confluence with Old Field Creek | +630 | Stokes County (Unincorporated Areas).
| Approximately 1.0 mile upstream of Easley Road (SR 1933) | +661
Crooked Creek | Approximately 1.6 miles upstream of mouth | +793 | Stokes County (Unincorporated Areas).
| Approximately 0.6 mile upstream of Frank Joyce Road (SR 1617) | +980
Crooked Run Creek | At the confluence with Little Yadkin River | +788 | Stokes County (Unincorporated Areas), City of King.
| Approximately 550 feet upstream of Maple Street | +1,070
Crooked Run Creek Tributary | Approximately 160 feet upstream of the confluence with Crooked Run | +904 | Stokes County (Unincorporated Areas), City of King.
| Approximately 1,800 feet upstream of the confluence of Crooked Run Creek Tributary 2 of Tributary | +992
Crooked Run Creek Tributary 2 of Tributary | Approximately 500 feet upstream of the confluence with Crooked Run Creek Tributary | +979 | City of King.
| Approximately 0.4 mile upstream of the confluence with Crooked Run Creek Tributary | +1,000
Dan River | Approximately 500 feet downstream of the confluence of Dan River Tributary 50 | +586 | Stokes County (Unincorporated Areas), Town of Danbury.
| Approximately 100 feet upstream of most upstream crossing of State boundary | +1,137
Tributary 48 | At the Stokes/Rockingham County boundary | +591 | Stokes County (Unincorporated Areas).
| Approximately 350 feet upstream of the Stokes/Rockingham County boundary | +593
Tributary 50 | At the confluence with Dan River | +586 | Stokes County (Unincorporated Areas).
| Approximately 0.8 mile upstream of U.S. Route 311 | +599
Tributary 51 | At the confluence with Dan River | +586 | Stokes County (Unincorporated Areas).
| Approximately 50 feet downstream of U.S. Route 311 | +596
Tributary 52 | At the confluence with Dan River | +597 | Stokes County (Unincorporated Areas).
| Approximately 0.3 mile upstream of Middleton Loop (SR 1909) | +608
Tributary 54 | At the confluence with Dan River | +610 | Stokes County (Unincorporated Areas).
| Approximately 0.7 mile upstream of the confluence with Dan River | +628
Tributary 56 | At the confluence with Dan River | +616 | Stokes County (Unincorporated Areas).
| Approximately 0.5 mile upstream of the confluence with Dan River | +648
Tributary 57 | At the confluence with Dan River | +712 | Stokes County (Unincorporated Areas).
| Approximately 0.5 mile upstream of the confluence with Dan River | +745
Tributary 58 | At the confluence with Dan River | +894 | Stokes County (Unincorporated Areas).
| Approximately 0.4 mile upstream of Collinstown Road (SR 1432) | +1,096
Dan River Tributary near Dodgetown Road | At the confluence with Dan River | +662 | Stokes County (Unincorporated Areas).
| Approximately 0.6 mile upstream of the confluence with Dan River | +679
Dan River Tributary near Mission Road | At the confluence with Dan River | +686 | Stokes County (Unincorporated Areas).
| Approximately 0.3 mile upstream of the confluence with Dan River | +691
Danbury Creek | At the confluence with Little Yadkin River | +850 | Stokes County (Unincorporated Areas), City of King.
| Approximately 1,000 feet upstream of Goff Road (SR 1138) | +895
East Prong Little Yadkin River | At the confluence with Little Yadkin River | +862 | Stokes County (Unincorporated Areas).
| Approximately 2.6 miles upstream of Volunteer Road (SR 1136) | +918
Elk Creek | At the confluence with Dan River | +849 | Stokes County (Unincorporated Areas).
| Approximately 100 feet downstream of the North Carolina/Virginia State boundary | +1,006
Eurins Creek | Approximately 300 feet upstream of the confluence with Dan River | +588 | Stokes County (Unincorporated Areas).
| Approximately 2.2 miles upstream of U.S. Route 311 | +657
Tributary 1 | At the confluence with Eurins Creek | +603 | Stokes County (Unincorporated Areas).
| Approximately 0.4 mile upstream of the confluence with Eurins Creek | +626
Tributary 2 | At the confluence with Eurins Creek | +604 | Stokes County (Unincorporated Areas).
| Approximately 0.6 mile upstream of the confluence with Eurins Creek | +627
Tributary 3 | At the confluence with Eurins Creek | +650 | Stokes County (Unincorporated Areas).
| Approximately 0.4 mile upstream of the confluence with Eurins Creek | +661
Flat Shoal Creek | At the confluence with Dan River | +684 | Stokes County (Unincorporated Areas), Town of Danbury.
| Approximately 0.3 mile upstream of Young Road (SR 1990) | +825
Fulk Creek | At the confluence with Dan River | +601 | Stokes County (Unincorporated Areas), Town of Walnut Grove.
| Approximately 1.5 miles upstream of U.S. Route 311 | +649
Goff Creek | At the confluence with Danbury Creek | +894 | Stokes County (Unincorporated Areas), City of King.
| Approximately 1,800 feet upstream of Brown Road (SR 1128) | +927
Grassy Creek Tributary 8 | At the Stokes/Surry County boundary | +918 | Stokes County (Unincorporated Areas).
| Approximately 1,100 feet upstream of the Stokes/Surry County boundary | +927
Leak Branch | At the confluence with Town Fork Creek | +703 | Stokes County (Unincorporated Areas).
| Approximately 50 feet upstream of the Stokes/Forsyth County boundary | +703
Lick Creek | At the confluence with Town Fork Creek | +609 | Stokes County (Unincorporated Areas), Town of Walnut Cove.
| At the Stokes/Forsyth County boundary | +647
Lick Creek Tributary (near Walnut Cove) | At the confluence with Lick Creek | +628 | Stokes County (Unincorporated Areas), Town of Walnut Cove.
| Approximately 900 feet upstream of the confluence with Lick Creek | +646
Tributary 1 | At the confluence with Lick Creek | +646 | Stokes County (Unincorporated Areas).
| At the Stokes/Forsyth County boundary | +647
Little Beaver Island Creek | Approximately 1.6 miles downstream of Dunlap Road (SR 1683) | +657 | Stokes County (Unincorporated Areas).
| Approximately 50 feet upstream of Franklin Moore Road (SR 1679) | +785
Little Crooked Creek | At the confluence with Crooked Creek | +839 | Stokes County (Unincorporated Areas).
| Approximately 1,900 feet upstream of Hope Beasley Road (SR 1615) | +933
Little Dan River | At the confluence with Dan River | +1,018 | Stokes County (Unincorporated Areas).
| Approximately 1,000 feet upstream of the confluence of Little Dan River Tributary 1 | +1,033
Tributary 1 | At the confluence with Little Dan River | +1,029 | Stokes County (Unincorporated Areas).
| Approximately 0.9 mile upstream of the confluence with Little Dan River | +1,071
Little Neatman Creek | At the confluence with Neatman Creek | +779 | Stokes County (Unincorporated Areas).
| Approximately 0.6 mile upstream of the confluence with Neatman Creek | +807
Little Peter Creek | At the confluence with Peters Creek | +861 | Stokes County (Unincorporated Areas).
| Approximately 1,200 feet upstream of the confluence of Little Peter Creek Tributary | +1,004
Little Peter Creek Tributary | At the confluence with Peter Creek Tributary | +992 | Stokes County (Unincorporated Areas).
| Approximately 0.5 mile upstream of the confluence with Peter Creek Tributary | +1,015
Little Snow Creek | At the confluence with Snow Creek | +774 | Stokes County (Unincorporated Areas).
| Approximately 1.9 miles upstream of Moorefield Road (SR 1657) | +867
Little Yadkin River | Flooding affecting Stokes County approximately 850 feet east along county boundary from Little Yadkin River Tributary near Perch Road streamline | +776 | Stokes County (Unincorporated Areas).
| Approximately 1.0 mile upstream of High Bridge Road (SR 1157) | +948
| At the confluence with the Little Yadkin River | +815 | Stokes County (Unincorporated Areas).
Tributary 1 | Approximately 2,475 feet upstream of the confluence with Little Yadkin River | +821
| At the confluence with Little Yadkin River | +833 | Stokes County (Unincorporated Areas).
Tributary 2 | Approximately 0.4 mile upstream of Westmoreland Road (SR 1104) | +845
| At the Stokes/Forsyth County boundary | +775 | Stokes County (Unincorporated Areas).
Tributary near Perch Road | Approximately 0.5 mile upstream of the confluence with Little Yadkin River | +781
Lynn Branch | At the confluence with Snow Creek | +664 | Stokes County (Unincorporated Areas).
| Approximately 0.8 mile upstream of Duggins Road (SR 1696) | +712
Marshall Creek | At the confluence with Big Creek | +884 | Stokes County (Unincorporated Areas).
| Approximately 0.7 mile upstream of George Road (SR 1459) | +1,022
Martin Creek | At the confluence with Town Fork Creek | +642 | Stokes County (Unincorporated Areas).
| Approximately 0.8 mile upstream of Brook Cove Road (SR 1941) | +687
Miles Creek | At the confluence with Town Fork Creek | +617 | Stokes County (Unincorporated Areas), Town of Walnut Cove.
| Approximately 2.5 miles upstream of East Road (SR 1937) | +800
Mill Creek | At the confluence with Dan River | +693 | Stokes County (Unincorporated Areas), Town of Danbury.
| Approximately 1.7 miles upstream of NC Route 8 | +820
Mill Creek (Hawkins Mill Creek) | At the confluence with Snow Creek | +750 | Stokes County (Unincorporated Areas).
| Approximately 2.0 miles upstream of the confluence of Snow Creek | +856
Neatman Creek | At the confluence with Town Fork Creek | +660 | Stokes County (Unincorporated Areas).
| Approximately 900 feet upstream of Flat Shoals Road (SR 2019) | +938
North Double Creek | At the confluence with Dan River | +758 | Stokes County (Unincorporated Areas).
| Approximately 3.1 miles upstream of NC Route 66 | +943
Old Field Creek | At the confluence with Tom Fork Creek | +624 | Stokes County (Unincorporated Areas).
| At the Stokes/Forsyth County boundary | +653 |
Paynes Branch | At the confluence with Town Fork Creek | +715 | Stokes County (Unincorporated Areas).
| Approximately 50 feet upstream of the Stokes/Forsyth County boundary | +780
Paynes Branch Tributary | At the confluence with Paynes Branch | +736 | Stokes County (Unincorporated Areas).
| At the Stokes/Forsyth County boundary | +863
Peters Creek | At the confluence with Dan River | +805 | Stokes County (Unincorporated Areas).
| Approximately 200 feet downstream of the North Carolina/Virginia State boundary | +1,015
Pinch Gut Creek | At the confluence with Big Creek | +916 | Stokes County (Unincorporated Areas).
| Approximately 1.3 miles upstream of Jackson Road (SR 1214) | +1,039
Red Bank Creek | At the confluence with Town Fork Creek | +651 | Stokes County (Unincorporated Areas).
| At the Stokes/Forsyth County boundary | +694
Redman Creek | At the confluence with Snow Creek | +684 | Stokes County (Unincorporated Areas).
| Approximately 1.7 miles upstream of the confluence with Snow Creek | +814
Reed Creek | Approximately 0.6 mile downstream of Reynolds Road (SR 1688) | +606 | Stokes County (Unincorporated Areas).
| Approximately 0.7 mile upstream of NC Route 772 | +690
Scott Branch | At the confluence with Dan River | +694 | Stokes County (Unincorporated Areas), Town of Danbury.
| Approximately 500 feet upstream of NC Route 8 | +794
Seven Island Creek | At the confluence with Dan River | +708 | Stokes County (Unincorporated Areas).
| Approximately 800 feet upstream of Seven Island Road (SR 1665) | +708
Snow Creek | At the confluence with Dan River | +664 | Stokes County (Unincorporated Areas).
| Approximately 0.5 mile upstream of Moore Road (SR 1602) | +981
South Crooked Creek | At the confluence with Little Crooked Creek | +856 | Stokes County (Unincorporated Areas).
| Approximately 1.5 miles upstream of the confluence with Little Crooked Creek | +918
South Double Creek | At the confluence with Dan River | +756 | Stokes County (Unincorporated Areas).
| Approximately 1.8 miles upstream of NC Route 66 | +864
South Double Creek Tributary | At the confluence with South Double Creek | +765 | Stokes County (Unincorporated Areas).
| Approximately 1.3 miles upstream of the confluence with South Double Creek | +804
Timmons Creek | At the confluence with Town Fork Creek | +751 | Stokes County (Unincorporated Areas).
| Approximately 0.9 mile upstream of Slate Road (SR 1966) | +809
Town Fork Creek Tributary 3 | At the confluence with Town Fork Creek | +626 | Stokes County (Unincorporated Areas).
| Approximately 0.7 mile upstream of the confluence with Town Fork Creek | +641
Town Fork Creek | At the confluence with Dan River | +598 | Stokes County (Unincorporated Areas), Town of Walnut Cove.
| Approximately 300 feet upstream of Covington Road (SR 2009) | +957
Tributary 1 | At the confluence with Town Fork Creek | +610 | Stokes County (Unincorporated Areas), Town of Walnut Cove.
| Approximately 0.5 mile upstream of Ninth Street | +718
Tributary 2 | At the confluence with Town Fork Creek | +618 | (Unincorporated Areas), Town of Walnut Cove.
| Approximately 1,600 feet upstream of NC Route 65 | +664 | Stokes County.
Tributary 4 | At the confluence with Town Fork Creek | +636 | Stokes County (Unincorporated Areas).
| Approximately 1,500 feet upstream of Brook Cove Road (SR 1941) | +652
Voss Creek | At the confluence with Town Fork Creek | +633 | Stokes County (Unincorporated Areas).
| Approximately 0.6 mile upstream of Rosebud Road (SR 1945) | +756
Voss Creek Tributary | At the confluence with Voss Creek | +661 | Stokes County (Unincorporated Areas).
| Approximately 1,400 feet upstream of the confluence with Voss Creek | +673
Watts Creek | At the confluence with Town Fork Creek | +642 | Stokes County (Unincorporated Areas).
| Approximately 1.4 miles upstream of Brook Cove Road (SR 1941) | +723
West Belews Creek | At the confluence with Belews Lake | +737 | Stokes County (Unincorporated Areas).
| At the Stokes/Forsyth County boundary | +737
West Prong Little Yadkin River | At the confluence with Little Yadkin River | +882 | Stokes County (Unincorporated Areas).
| Approximately 0.4 mile upstream of Brims Grove Road (SR 2109) | +1,002
West Prong Little Yadkin River Tributary | At the confluence with West Prong Little Yadkin River | +900 | Stokes County (Unincorporated Areas).
| Approximately 0.5 mile upstream of the confluence with West Prong Little Yadkin River | +1,006
Zilphy Creek | At the confluence with Dan River | +633 | Stokes County (Unincorporated Areas).
| Approximately 0.7 mile upstream of Power Dam Road (SR 1712) | +659
# Depth in feet above ground.
* National Geodetic Vertical Datum.
+ North American Vertical Datum.
ADDRESSES
City of King
Maps are available for inspection at the King City Hall, 229 South Main Street, King, North Carolina.
Town of Danbury
Maps are available for inspection at the Danbury Town Hall, 201 Courthouse Circle, Danbury, North Carolina.
Town of Walnut Cove
Maps are available for inspection at the Walnut Cove Town Hall, 208 West Third Street, Walnut Cove, North Carolina.
Stokes County (Unincorporated Areas)
Maps available for inspection at the Stokes County Government Center, 1012 Main Street, Danbury, North Carolina.
Knox County, Tennessee and Incorporated Areas
Docket Nos.: FEMA-B-7465 and D-7622
Beaver Creek | Approximately 1.3 miles upstream of confluence with Clinch River | +796 | Knox County (Unincorporated Areas), City of Knoxville.
| Approximately 600 feet upstream of Tazewell Pike | +1,081
Berry Branch | At confluence with Limestone Creek | +877 | Knox County (Unincorporated Areas).
| Approximately 3,600 feet upstream of confluence with Limestone Creek | +889
Brice Branch | At confluence with Flat Creek | +946 | Knox County (Unincorporated Areas).
| Approximately 1,320 feet upstream of confluence with Flat Creek | +948
Burnett Creek | At confluence with French Broad River | +827 | Knox County (Unincorporated Areas).
| Approximately 763 feet upstream of E. Governor John Sevier Highway | +865
Clift Creek | At confluence with Lyon Creek | +849 | Knox County (Unincorporated Areas).
| Approximately 2.1 miles upstream of Randles Road | +985
Conner Creek | Approximately 520 feet downstream of Rippling Drive | +799 | Knox County (Unincorporated Areas).
| Approximately 307 feet upstream of Conners Creek Circle | +960
Cox Creek | At confluence with Beaver Creek | +1,036 | Knox County (Unincorporated Areas).
| Approximately 701 feet upstream of Tazewell Pike | +1,092
Tributary to Cox Creek | At confluence with Cox Creek | +1,044 | Knox County (Unincorporated Areas).
| Approximately 149 feet upstream of Cedarbreeze Road | +1,073
Echo Valley Tributary | At confluence with Ten Mile Creek | +876 | Knox County (Unincorporated Areas).
| Approximately 157 feet upstream of Echo Valley Road | +881
First Creek | At confluence with Tennessee River | +822 | City of Knoxville.
| Approximately 379 feet upstream of Knox Road | +967
Tributary No. 1 | At confluence with First Creek | +963 | City of Knoxville.
| Approximately 1,341 feet upstream of Rockcrest Road | +994
Tributary No. 2 | At confluence with First Creek | +963 | City of Knoxville.
| Approximately 1,011 feet upstream of Meadow Road | +985
Flat Creek | Approximately 100 feet upstream of confluence with Holston River | +847 | Knox County (Unincorporated Areas).
| Approximately 937 feet upstream of Longmire Road | +992
Fourth Creek | At confluence with Tennessee River | +818 | City of Knoxville.
| Approximately 175 feet upstream of Middlebrook Pike | +925
Tributary No. 1 | At confluence with Fourth Creek | +835 | City of Knoxville.
| Approximately 365 feet upstream of Lawford Road | +922
Tributary No. 3 | At confluence with Fourth Creek | +917 | City of Knoxville.
| Approximately 586 feet upstream of Picadilly Road | +947
French Broad River | Approximately 1,000 feet upstream of confluence with Tennessee River and Holston River | +826 | Knox County (Unincorporated Areas), City of Knoxville.
| At Knox County boundary | +860 |
Grassy Creek | At confluence with Beaver Creek | +973 | Knox County (Unincorporated Areas), City of Knoxville.
| Approximately 0.55 mile upstream of Grassy Creek Way | +1,024
Grassy Creek Tributary | At confluence with Grassy Creek | +993 | Knox County (Unincorporated Areas).
| Approximately 1.0 mile upstream of Johnson Road | +1,016
Hickory Creek | Approximately 500 feet upstream of Campbell Station Road | +926 | Knox County (Unincorporated Areas).
| Approximately 4,281 feet upstream of Cooper Lane | +1,025
Hines Branch | At confluence with Beaver Creek | +1,014 | Knox County (Unincorporated Areas), City of Knoxville.
| Approximately 1,835 feet upstream of Mynatt Drive | +1,078
Hines Creek | At confluence with French Broad River | +832 | Knox County (Unincorporated Areas).
| Approximately 0.44 mile upstream of Old Sevierville Pike | +921
Tributary to Hines Creek | At confluence with Hines Creek | +902 | Knox County (Unincorporated Areas).
| Approximately 0.47 mile upstream of confluence with Hines Creek | +919
Kerns Branch | At confluence with Beaver Creek | +1,058 | Knox County (Unincorporated Areas).
| Approximately 842 feet upstream of Coppock Road | +1,130
Knob Creek | At confluence with Tennessee River | +818 | Knox County (Unincorporated Areas), City of Knoxville.
| Approximately 0.6 mile upstream of Martin Mill Pike | +903
Knob Fork | At confluence with Beaver Creek | +994 | Knox County (Unincorporated Areas), City of Knoxville.
| Approximately 183 feet upstream of Fountain City Road | +1,080
Limestone Creek | At confluence with Tuckahoe Creek | +872 | Knox County (Unincorporated Areas).
| Approximately 1,736 feet upstream of Smith School Road | +889
Little Flat Creek | At confluence with Flat Creek | +966 | Knox County (Unincorporated Areas).
| Approximately 0.8 mile upstream of Clement Road | +1,042
Little River | At confluence with Tennessee River | +818 | Knox County (Unincorporated Areas), City of Knoxville.
| Approximately 0.77 mile upstream of Alcoa Highway | +819
Little Turkey Creek | At the confluence with Turkey Creek | +816 | Knox County (Unincorporated Areas), Town of Farragut.
| Approximately 900 feet upstream of Brochardt Boulevard | +916
Little Turkey Creek Tributary | At confluence with Little Turkey Creek | +910 | Town of Farragut.
| Approximately 131 feet upstream of Hickory Woods Road | +947
Lyon Creek | Approximately 100 feet upstream of confluence with Holston River | +849 | Knox County (Unincorporated Areas).
| Approximately 461 feet upstream of Carter Mill Drive | +987
Mill Branch | At confluence with Willow Fork | +1,027 | Knox County (Unincorporated Areas), City of Knoxville.
| Approximately 440 feet upstream of Maynardville Pike | +1,142
Murphy Creek | At confluence with Whites Creek | +974 | Knox County (Unincorporated Areas).
| Approximately 1,350 feet upstream of Link Road | +1,087
North Fork Beaver Creek | At confluence with Beaver Creek | +1,018 | Knox County (Unincorporated Areas).
| Approximately 128 feet upstream of McCloud Road | +1,096
North Fork Turkey Creek | At confluence with Turkey Creek | +836 | Town of Farragut.
| Approximately 1,375 feet upstream of Grigsby Chapel Road | +944
Plumb Creek | At confluence with Beaver Creek | +940 | Knox County (Unincorporated Areas).
| Approximately 400 feet upstream of Hickey Road | +977 |
Roseberry Creek | At upstream side of Norfolk Southern Railway | +844 | Knox County (Unincorporated Areas).
| Approximately 1,352 feet upstream of Maloneyville Road | +1,030
Sinking Creek | At confluence with Tennessee River | +817 | Knox County (Unincorporated Areas).
| Approximately 1,200 feet upstream of Wallace Road | +913
Sinking Creek Tributary to Ten Mile Creek | At confluence with Ten Mile Creek | +900 | Knox County (Unincorporated Areas).
Tributary to Ten Mile Creek | Approximately 396 feet upstream of Middlebrook Pike | +997
Sixmile Branch | At end of Burnett Creek | +865 | Knox County (Unincorporated Areas).
| Approximately 636 feet upstream of East Marine Drive | +908
South Fork Beaver Creek | At confluence with Beaver Creek | +1,074 | Knox County (Unincorporated Areas).
| Approximately 392 feet upstream of Maloneyville Road | +1,107
Stock Creek | Approximately 1.23 miles downstream of Martin Mill Pike | +819 | Knox County (Unincorporated Areas).
| Approximately 58 feet upstream of McCammon Road | +892
Swanpond Creek | At upstream side of Holston River Road | +830 | Knox County (Unincorporated Areas), City of Knoxville.
| Approximately 3,200 feet upstream of Wooddale Church Road | +996
Ten Mile Creek | Approximately 2,400 feet downstream of the confluence of Ebenezer Branch | +876 | Knox County (Unincorporated Areas), City of Knoxville.
| Approximately 0.5 mile upstream of Robinson Road | +967
Tennessee River | Approximately 28.0 miles downstream of Pellissippi Parkway | +816 | Knox County (Unincorporated Areas), City of Knoxville.
| Approximately 0.75 mile downstream of French Broad and Holston Rivers | +824
Thompson School Tributary | At confluence with Beaver Creek | +1,067 | Knox County (Unincorporated Areas).
| Approximately 545 feet upstream of East Emory Road | +1,086
Tributary to Love Creek | Approximately 1,200 feet upstream of confluence with Love Creek | +840 | City of Knoxville.
| Approximately 1,086 feet upstream of Chilhowee Court | +866
Tributary to Turkey Creek | At confluence with Turkey Creek | +909 | Knox County (Unincorporated Areas).
| Approximately 1,300 feet upstream of confluence with Turkey Creek | +909
Tuckahoe Creek | At confluence with French Broad River | +850 | Knox County (Unincorporated Areas).
| At county boundary | +905
Turkey Creek | At confluence with Tennessee River | +816 | Knox County (Unincorporated Areas), Town of Farragut, City of Knoxville.
| Approximately 1,606 feet upstream of Dutchtown Road | +960
West Hills Tributary | At confluence with Ten Mile Creek | +902 | Knox County (Unincorporated Areas), City of Knoxville.
| Approximately 295 feet upstream of Corteland Drive | +931
Whites Creek | At confluence with First Creek | +957 | Knox County (Unincorporated Areas), City of Knoxville.
| Approximately 0.6 mile upstream of Clearbrook Drive | +989
Williams Creek | At confluence with Tennessee River | +823 | City of Knoxville.
| Approximately 451 feet upstream of Wilson Avenue | +898
Willow Fork | At confluence with Beaver Creek | +1,027 | Knox County (Unincorporated Areas).
| Approximately 628 feet upstream of Brackett Road | +1,093
# Depth in feet above ground.
* National Geodetic Vertical Datum.
+ North American Vertical Datum.
ADDRESSES
Town of Farragut
Maps available for inspection at the Farragut Town Hall, Engineering Department, 11408 Municipal Center Drive, Farragut, Tennessee.
Knox County (Unincorporated Areas)
Maps available for inspection at Knox County Engineering and Public Works, 205 West Baxter Avenue, Knoxville, Tennessee.
City of Knoxville
Maps available for inspection at the City of Knoxville Engineering Division, City County Building, 400 Main Street, Room 480, Knoxville, Tennessee.
Payne County, Oklahoma and Incorporated Areas
Docket No.: FEMA-B-7460
Bell Creek | At confluence with Bell Creek and Cottonwood Creek | +854 | Payne County (Unincorporated Areas), City of Cushing.
| Intersection of Little Avenue and Bell Creek | +917
East Boomer Creek | At the intersection of Mceleroy Road and East Boomer Creek | +878 | Payne County (Unincorporated Areas), City of Stillwater.
| At the intersection of West Peacable Acres Road and East Boomer Creek | +931
Knipe Creek | At confluence with Cimarron River and Knipe Creek | +841 | Payne County (Unincorporated Areas), Town of Perkins.
| Approximately 11,500 feet upstream the confluence of Knipe Creek and Cimarron River | +903
Perkins Creek | At the confluence of Perkins Creek and Cimarron River | +844 | Payne County (Unincorporated Areas), Town of Perkins.
| Intersection of 116th Street and Perkins Creek | +916
Stillwater Creek | Intersection of 44th Avenue and Prairie Road | +844 | Payne County (Unincorporated Areas), City of Stillwater, Town of Ripley.
| Approximately 2,000 feet upstream the confluence of Harrington Creek and Stillwater Creek | +894
West Boomer Creek | At the intersection of West Hall of Fame Avenue and West Boomer Creek | +882 | Payne County (Unincorporated Areas), City of Stillwater.
| At the intersection of West Liberty Lane and West Boomer Creek | +916
* National Geodetic Vertical Datum.
# Depth in feet above ground.
+ North American Vertical Datum.
ADDRESSES
Unincorporated Areas of Payne County:
Maps are available for inspection at 315 West 6th Street, Stillwater, OK 74074.
City of Cushing
Maps are available for inspection at Cushing City Hall, 100 Judy Adams Blvd., Cushing, OK 74023.
City of Stillwater
Maps are available for inspection at Stillwater Municipal Building, 723 S. Lewis, Stillwater, OK 74074.
Town of Perkins
Maps are available for inspection at City Hall, 110 N. Main, Perkins, OK 74059.
Town of Ripley
Maps are available for inspection at 203 S. Ripley Street, Ripley, OK 74062.

(Catalog of Federal Domestic Assistance No. 83.100, “Flood Insurance.”)

Dated: November 30, 2006.
David I. Maurstad,
Director, Mitigation Division, Federal Emergency Management Agency, Department of Homeland Security.

[FR Doc. E6-20803 Filed 12-6-06; 8:45 am]

BILLING CODE 9110-12-P